DEPARTMENT OF THE TREASURY

Internal Revenue Service

26 CFR Part 1

[TD 9156]

RIN 1545-BB00

Place for Filing

Correction

In rule document 04-19478 beginning on page 55743 in the issue of Thursday, September 16, 2004, make the following corrections:

1. On page 55743, in the second column, in the first full paragraph, in the tenth line, “sect;1.6091-1(b)” should read “§ 1.6091-1(b).”

§1.6091-2 [Corrected]

2. On page 55744, in the second column, in 1.6091-2(a), in the second line, “paragraph (c) § f” should read “paragraph (c) of.”

§1.6091-3 [Corrected]

3. On the same page, in the third column, § 1.6091-3, after amendatory instruction 12., in the next line, the phrase, “The revision reads as follows:” should read, “The revision reads as follows:”.

[FR Doc. C4-19478 Filed 10-6-04; 8:45 am]

BILLING CODE 1505-01-D